SECURITIES AND EXCHANGE COMMISSION

[File No. 500-1]

In the Matter of Emission Controls Corporation; Order of Suspension of Trading

January 23, 2003.

It appears to the Securities and Exchange Commission (“Commission”) that there is a lack of adequate and accurate information concerning the management, business practices, and results of operations of Emission Controls Corporation (“Emission Controls”). The securities of Emission Controls are quoted on the OTC Pink Sheets under the symbol EMCS. Information has been provided to the Commission raising concerns as to the adequacy and accuracy of Emission Controls' publicly disseminated information concerning, among other things, Emission Controls' products and business prospects.

The Commission is of the opinion that the public interest and the protection of investors require a suspension of trading in the securities of Emission Controls.

Therefore, it is ordered, pursuant to section 12(k) of the Securities Exchange Act of 1934, that trading in the securities of Emission Controls is suspended for the period from 9:30 a.m. e.s.t. January 23, 2003, through 11:59 p.m. e.s.t., on February 5, 2003.

By the Commission.
Margaret H. McFarland,
Deputy Secretary.

[FR Doc. 03-1878 Filed 1-23-03; 12:43 pm]

BILLING CODE 8010-01-P